ENVIRONMENTAL PROTECTION AGENCY

[ER-FRL-9000-6]

Environmental Impacts Statements; Notice of Availability

Responsible Agency: Office of Federal Activities, General Information (202) 564-1399 or http://www.epa.gov/compliance/nepa/.

Weekly receipt of Environmental Impact Statements

Filed 12/12/2011 Through 12/16/2011

Pursuant to 40 CFR 1506.9

Notice: Section 309(a) of the Clean Air Act requires that EPA make public its comments on EISs issued by other Federal agencies. EPA's comment letters on EIS are available at: http://www.epa.gov/compliance/nepa/eisdata.html.

EIS No. 20110423, Draft EIS, NRC, SC, William States Lee III Nuclear Station Units 1 and 2 Combined Licenses (COLs) Application, Constructing and Operating Two New Nuclear Units at the Lee Nuclear Station Site, NUREG-2111, Cherokee County, SC, Comment Period Ends: 02/06/2012, Contact: Sarah Lopas (301) 415-1147.

EIS No. 20110424, Final EIS, NOAA, IL, Illinois Coastal Management Program, To Preserve, Protect, Restore, and Where Possible, Enhance Coastal Resources in Illinois, Review Period Ends: 01/23/2012, Contact: Diana Olinger (301) 563-1149.

EIS No. 20110425, Final EIS, FHWA, CT, North Hillside Road Extension on the University of Connecticut Storrs Campus, Hunting Lodge Road, US Army COE Section 404 Permit, in the town Mansfield, CT, Review Period Ends: 01/23/2012, Contact: Amy Jackson-Grove (860) 659-6703 Ext. 3009.

EIS No. 20110426, Draft EIS, USFS, FL, City of Tallahassee Southwestern Transmission Line Project, Proposes to Construct, Operate and Maintain a New Overhead 230- kilovolt (kV), Electric Transmission Line, Special-Use-Permit (SUP), Apalachicola National Forest (ANF), Leon County, FL, Comment Period Ends: 02/06/2012, Contact: David Harris (404) 347-5292.

EIS No. 20110427, Final EIS, AFS/BLM, UT, Greens Hollow Coal Lease Tract Project, Proposed Federal Coal Leasing and Subsequent Underground Coal Mining, Funding and Lease Application, Fishlake and Manti-La Sal National Forest, Sanpete and Sevier Counties, UT, Review Period Ends: 01/23/2012, Contact: Tom Lloyd (435) 636-3596 (AFS) and Steve Rigby (435) 636-3604 (BLM). This is a Joint Lead document between AFS and BLM.

EIS No. 20110428, Draft EIS, USACE, CA, Berths 302-306 American Presidents Line (APL) Container Terminal Project, Construction and Operation, US Army COE Section 10 and Section 103 of the Marine Protection Research and Sanctuaries Act, Los Angeles County, CA, Comment Period Ends: 02/17/2012, Contact: Theresa Stevens (805) 585-2146.

EIS No. 20110429, Draft EIS, FTA, NJ, Northern Branch Corridor Project, Restoration of Passenger Rail Service in Northeastern Hudson and Southern Bergen Counties, NJ, Comment Period Ends: 02/06/2012, Contact: Anthony Lee (212) 668-2170.

Amended Notices

EIS No. 20110371, Draft EIS, BLM, UT, Alton Coal Tract Lease by Application Project, the Exploration and Development of Mineral Resource, Kane County, UT, Comment Period Ends: 01/27/2012, Contact: Keith Rigtrup (435) 865-3063 Revision to FR Notice Published 11/04/2011: Extending Comment Period from 01/06/2012 to 01/27/2012.

Dated: December 20, 2011.
Aimee S. Hessert,
Deputy Director, NEPA Compliance Division, Office of Federal Activities.

[FR Doc. 2011-32944 Filed 12-22-11; 8:45 am]

BILLING CODE 6560-50-P